DEPARTMENT OF ENERGY

Federal Energy Regulatory Commission

[Docket No. RP00-397-006]

Questar Pipeline Company; Notice of Compliance Filing

November 19, 2002.

Take notice that on November 15, 2002, Questar Pipeline Company (Questar), tendered for filing as part of its FERC Gas Tariff, First Revised Volume No. 1, the following tariff sheets to be effective as indicated on each tariff sheet:

Substitute Eighth Revised Sheet No. 1, Effective October 1, 2002

Substitute Twenty-Fifth Revised Sheet No. 5, Effective October 1, 2002

Substitute Seventh Revised Sheet No. 56, Effective December 1, 2002

Questar states that tariff language that was approved in the referenced four separate proceedings is consolidated into the above tariff sheets.

Questar further states that copies of this filing were served upon Questar's customers, the Public Service Commission of Utah and the Public Service Commission of Wyoming.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's web site under the “e-Filing” link.

Linwood A. Watson, Jr.,
Deputy Secretary.

[FR Doc. 02-29856 Filed 11-22-02; 8:45 am]

BILLING CODE 6717-01-P